ENVIRONMENTAL PROTECTION AGENCY

40 CFR Part 52

[EPA-R10-OAR-2020-0174, FRL-10020-98-Region 10]

Air Plan Approval; Washington: Inspection and Maintenance Program; Correction

AGENCY: Environmental Protection Agency (EPA).

ACTION: Final rule; correction.

SUMMARY: The Environmental Protection Agency (EPA) is correcting a final rule that appeared in the Federal Register on February 18, 2021, and that will become effective on March 22, 2021. The EPA finalized removal of the Inspection and Maintenance program from the active control measure portion of Washington's State Implementation Plan. This action corrects inadvertent typographical errors in the Federal Register. The corrections described in this action do not affect the substantive requirements of the final rule implementing section 110 of the Clean Air Act.

DATES: This correction is effective on March 22, 2021.

FOR FURTHER INFORMATION CONTACT: Jeff Hunt, EPA Region 10, 1200 Sixth Avenue—Suite 155, Seattle, WA 98101, at (206) 553-0256, or hunt.jeff@epa.gov.

SUPPLEMENTARY INFORMATION: The EPA is making the following corrections to the final rule, “Air Plan Approval; Washington: Inspection and Maintenance Program” as published in the Federal Register on February 18, 2021 (86 FR 10026). That publication contained amendatory instruction removing the entries “173-422-010”, “173-422-020”, “173-422-030”, “173-422-031”, “173-422-035”, “173-422-040”, “173-422-050”, “173-422-060”, “173-422-065”, “173-422-070”, “173-422-075”, “173-422-090”, “173-422-095”, “173-422-100”, “173-422-120”, “173-422-145”, “173-422-160”, “173-422-170”, “173-422-175”, “173-422-090”, and “173-422-095.” The correct citations for the last two entries for removal should have been “173-422-190” and “173-422-195.” This action corrects the citations as intended in the February 18, 2021 final rule.

Section 553 of the Administrative Procedure Act, 5 U.S.C. 553(b)(B), provides that, when an agency for good cause finds that notice and public procedure are impracticable, unnecessary, or contrary to the public interest, the agency may issue a rule without providing notice and an opportunity for public comment. The EPA has determined that there is good cause for making this rule final without prior proposal and opportunity for comment because, as explained here, the changes to the rule are minor technical corrections, are noncontroversial in nature, and do not substantively change the requirements of the final rule. Rather, the changes correct inadvertent typographical errors and redundant text. Additionally, the corrections to the regulatory text match the revisions described in the preamble to the final rule. Thus, notice and opportunity for public comment are unnecessary. The EPA finds that this constitutes good cause under 5 U.S.C. 553(b)(B).

Federal Register Correction

In FR doc 2021-03033 at 86 FR 10026 in the issue of February 18, 2021, the following corrections are made:

§ 52.2470 [Corrected]

1. On page 10027, in the third column, in amendment 2.a.ii., the instruction “Removing the entries “173-422-010”, “173-422-020”, “173-422-030”, “173-422-031”, “173-422-035”, “173-422-040”, “173-422-050”, “173-422-060”, “173-422-065”, “173-422-070”, “173-422-075”, “173-422-090”, “173-422-095”, “173-422-100”, “173-422-120”, “173-422-145”, “173-422-160”, “173-422-170”, “173-422-175”, “173-422-090”, and “173-422-095”” is corrected to read “Removing the entries “173-422-010”, “173-422-020”, “173-422-030”, “173-422-031”, “173-422-035”, “173-422-040”, “173-422-050”, “173-422-060”, “173-422-065”, “173-422-070”, “173-422-075”, “173-422-090”, “173-422-095”, “173-422-100”, “173-422-120”, “173-422-145”, “173-422-160”, “173-422-170”, “173-422-175”, “173-422-190”, and “173-422-195” ”.

Dated: March 3, 2021.
Michelle L. Pirzadeh,
Acting Regional Administrator, Region 10.

[FR Doc. 2021-04838 Filed 3-9-21; 8:45 am]

BILLING CODE 6560-50-P